DEPARTMENT OF HOMELAND SECURITY

Notice of Request for Revision to and Extension of a Currently Approved Information Collection for the Chemical Facility Anti-Terrorism Standards (CFATS)

AGENCY: National Protection and Programs Directorate, DHS.

ACTION: 30-Day notice and request for comments; revision of information collection request: 1670-0014.

SUMMARY: The Department of Homeland Security (DHS or the Department), National Protection and Programs Directorate (NPPD), Office of Infrastructure Protection (IP), Infrastructure Security Compliance Division (ISCD) will submit the following Information Collection Request (ICR) to the Office of Management and Budget (OMB) for review and clearance in accordance with the Paperwork Reduction Act of 1995. DHS previously published this information collection request (ICR), in the Federal Register, on Monday, April 10, 2017 at 82 FR 17270 for a 60-day public comment period. No comments was/were received by DHS. To access and review all documents related to this information collection, please visit the Federal eRulemaking Portal site at http://www.regulations.gov and enter Docket Number DHS-2017-0014 in the search box. The purpose of this notice is to allow an additional 30 days for public comments.

DATES: Comments are encouraged and will be accepted until August 28, 2017. This process is conducted in accordance with 5 CFR 1320.1.

ADDRESSES: Interested persons are invited to submit written comments on the proposed information collection to the Office of Information and Regulatory Affairs, Office of Management and Budget. Comments should be addressed to OMB Desk Officer, Department of Homeland Security and sent via electronic mail to oira_submission@omb.eop.gov or faxed to (202) 395-5806. All submissions must include the agency name and OMB Control Number 1670-0014.

Comments that include trade secrets, confidential commercial or financial information, Chemical-terrorism Vulnerability Information (CVI),¹ Sensitive Security Information (SSI),² or Protected Critical Infrastructure Information (PCII) ³ should not be submitted to the public regulatory docket. Please submit such comments separately from other comments in response to this notice. Comments containing trade secrets, confidential commercial or financial information, CVI, SSI, or PCII should be appropriately marked and packaged in accordance with applicable requirements and submitted by mail to the DHS/NPPD/IP/ISCD CFATS Program Manager at the Department of Homeland Security, 245 Murray Lane SW., Mail Stop 0610, Arlington, VA 20528-0610. Comments must be identified by OMB Control Number 2017-0014. The Department will forward all comments received by the submission deadline to the OMB Desk Officer.

¹ For more information about CVI see 6 CFR 27.400 and the CVI Procedural Manual at http://www.dhs.gov/xlibrary/assets/chemsec_cvi_proceduresmanual.pdf.

² For more information about SSI see 49 CFR part 1520 and the SSI Program Web page at http://www.tsa.gov.

³ For more information about PCII see 6 CFR part 29 and the PCII Program Web page at http://www.dhs.gov/protected-critical-infrastructure-information-pcii-program.

FOR FURTHER INFORMATION CONTACT: CFATS Program Manager, 866-323-2957, cfats@dhs.gov.

SUPPLEMENTARY INFORMATION: DHS Proposed Revisions for this Collection are Summarized Below:

• This request contains a name change for two previously approved instruments to clarify the functional purpose of both instruments. Specifically, “Request for a Technical Consultation” has been changed to “Compliance Assistance” and “Notification of New Top-Screen” has been changed to “Top-Screen Update.” No other revisions to the instrument names are proposed.

• The “Request for Redetermination” instrument provides a variety of possible reasons that facilities may select to support the justification for a redetermination request. The Department proposes to amend this instrument to allow facilities to select from a list of possible reasons to support a request for redetermination. No other revisions to this instrument or other instruments are proposed.

• This request proposes the addition of a new instrument titled “Declaration of Reporting Status” which allows a chemical facility to notify the Department that it is not required to register in CSAT or submit a Top-Screen (TS).

OMB is particularly interested in written comments from the public that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Address how the agency might minimize the burden of the collection of information on those who are to respond, including through the use of appropriate automated, electronic, mechanical, or other technological collection techniques or other forms of information technology (e.g., permitting electronic submissions of responses).

Analysis

The Department continues to rely on the analysis and resulting burden estimates provided in the 60-day notice for the instruments included in this ICR.

Agency: Department of Homeland Security, National Protection and Programs Directorate, Office of Infrastructure Protection, Infrastructure Security Compliance Division.

Title: Chemical Facility Anti-Terrorism Standards (CFATS).

OMB Number: 1670-0014.

Instrument: Request for Redetermination.

Frequency: “On occasion” and “Other”.

Affected Public: Business or other for-profit.

Number of Respondents: 625 respondents.

Estimated Time per Respondent: 0.25 hours.

Total Burden Hours: 156.25 annual burden hours.

Total Burden Cost (capital/startup): $0.

Total Recordkeeping Burden: $0.

Total Burden Cost: $10,581.25.

Instrument: Request for an Extension.

Frequency: “On occasion” and “Other”.

Affected Public: Business or other for-profit.

Number of Respondents: 730 respondents.

Estimated Time per Respondent: 0.08 hours.

Total Burden Hours: 58.40 annual burden hours.

Total Burden Cost (capital/startup): $0.

Total Recordkeeping Burden: $0.

Total Burden Cost: $3,954.85.

Instrument: Top-Screen Update.

Frequency: “On occasion” and “Other”.

Affected Public: Business or other for-profit.

Number of Respondents: 1250 respondents.

Estimated Time per Respondent: 0.08 hour.

Total Burden Hours: 150 hours.

Total Burden Cost (capital/startup): $0.

Total Recordkeeping Burden: $0.

Total Burden Cost: $10,158.00.

Instrument: Compliance Assistance.

Frequency: “On occasion” and “Other”.

Affected Public: Business or other for-profit.

Number of Respondents: 455 respondents.

Estimated Time per Respondent: 0.08 hours.

Total Burden Hours: 54.60 annual burden hours.

Total Burden Cost (capital/startup): $0.

Total Recordkeeping Burden: $0.

Total Burden Cost: $3,697.51.

Instrument: Declaration of Reporting Status.

Frequency: “On occasion” and “Other”.

Affected Public: Business or other for-profit.

Number of Respondents: 480 respondents.

Estimated Time per Respondent: 0.25 hours.

Total Burden Hours: 120 annual burden hours.

Total Burden Cost (capital/startup): $0.

Total Recordkeeping Burden: $0.

Total Burden Cost: $8,126.40.

Authority: 6 U.S.C. 621-629.

Dated: July 20, 2017.
David Epperson,
Chief Information Officer.

[FR Doc. 2017-15745 Filed 7-26-17; 8:45 am]

BILLING CODE 9110-9P-P